DEPARTMENT OF LABOR

Office of the Secretary

Submission for OMB Emergency Review: Comment Request

April 29, 2009.

The Department of Labor has submitted the following information collection request (ICR), utilizing emergency review procedures, to the Office of Management and Budget (OMB) for review and clearance in accordance with the Paperwork Reduction Act of 1995 (Pub. L. 104-13, 44 U.S.C. Chapter 35) and 5 CFR 1320.13. OMB approval has been requested by May 15, 2009. A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov. Interested parties are encouraged to send comments to the Office of Information and Regulatory Affairs, Attn: OMB Desk Officer for the Department of Labor—EBSA, Office of Management and Budget, Room 10235, Washington, DC 20503, Telephone: 202-395-7316/Fax: 202-395-6974 (these are not toll-free numbers), E-mail: OIRA_submission@omb.eop.gov. Comments and questions about the ICR listed below should be received 5 days prior to the requested OMB approval date.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Employee Benefits Security Administration.

Title of Collection: Application to the Department of Labor for Expedited Review of Denial of COBRA Premium Assistance.

OMB Control Number: New.

Frequency of Collection: On occasion.

Affected Public: Individuals or households; Business or other for-profit; Not-for-profit institutions.

Total Estimated Number of Respondents: 95,000.

Total Estimated Annual Burden Hours: 95,000.

Total Net Estimated Annual Costs Burden (other than hourly costs): $52,000.

Description: Section 3001 of the American Recovery and Reinvestment Act of 2009 (ARRA) provides “Assistance Eligible Individuals” with the right to pay reduced COBRA premiums for up to 9 months. To be considered an “Assistance Eligible Individual” and receive premium reduction an individual must: (1) Be eligible for, and elect, COBRA continuation coverage, (2) have experienced an involuntary termination of employment which led to the COBRA election opportunity, (3) have experienced the involuntary termination during the period beginning September 1, 2008, and ending December 31, 2009. Individuals who experienced an involuntary termination of employment at any time between September 1, 2008, and February 16, 2009, and were offered, but did not elect, COBRA coverage or who elected COBRA and subsequently dropped it may have the right to an additional 60-day election period.

If individuals request treatment as an assistance eligible individual and are denied such treatment because of their ineligibility for COBRA continuation coverage, ARRA section 3001(a)(5) requires the Secretary of Labor to provide for expedited review of the denial upon application to the Secretary in the form and manner the Secretary provides. The Secretary of Labor is required to act in consultation with the Secretary of the Treasury and must make a determination within 15 business days after receipt of an individual's application for review.

The “Application to the Department of Labor for Expedited Review of Denial of COBRA Premium Reduction” (the “Application”) is the form that will be used by individuals to file their expedited review appeals. Such individuals must complete all information requested on the Application in order to file their review requests with the Department's Employee Benefits Security Administration (EBSA). An Application may be denied if sufficient information is not provided. The ICR relates to the Application.

Why are we requesting Emergency Processing? If the Department were to comply with standard PRA clearance procedures, it would not be able to implement its expedited review program on a timely basis as required by ARRA section 3001(a)(5).

Darrin A. King,
Departmental Clearance Officer.

[FR Doc. E9-10142 Filed 5-1-09; 8:45 am]

BILLING CODE 4510-29-P